DEPARTMENT OF COMMERCE

National Oceanic and Atmospheric Administration

[I.D. 082001B]

Small Takes of Marine Mammals Incidental to Specified Activities; Repairs at the Carpinteria Oil and Gas Processing Facility, Carpinteria, CA

AGENCY: National Marine Fisheries Service (NMFS), National Oceanic and Atmospheric Administration (NOAA), Commerce.

ACTION: Notice of receipt of application and proposed authorization for a small take exemption; request for comments.

SUMMARY: NMFS has received a request from Venoco, Inc. for an authorization to take small numbers of marine mammals by harassment incidental to repairs at the Carpinteria Oil and Gas Processing Facility in Carpinteria, CA. Under the Marine Mammal Protection Act (MMPA), NMFS is requesting comments on its proposal to authorize Venoco to incidentally take, by harassment, small numbers of Pacific harbor seals (Phoca vitulina richardsi) from November 1, 2001, through November 1, 2002.

DATES: Comments and information must be received no later than October 12, 2001.

ADDRESSES: Comments on the application should be addressed to Donna Wieting, Chief, Marine Mammal Conservation Division, Office of Protected Resources, NMFS, 1315 East-West Highway, Silver Spring, MD 20910-3225. A copy of the application, the Project Execution Plan, and Wildlife Protection Plan may be obtained by writing to this address or by telephoning one of the contacts listed here.

FOR FURTHER INFORMATION CONTACT: Simona P. Roberts, (301) 713-2322, ext. 106 or Christina Fahy, (562) 980-4023.

SUPPLEMENTARY INFORMATION:

Background

Sections 101 (a)(5)(D) of the MMPA (16 U.S.C. 1361 et seq.) direct the Secretary of Commerce to allow, upon request, the incidental, but not intentional taking of small numbers of marine mammals by U.S. citizens who engage in a specified activity (other than commercial fishing) within a specified geographical region if certain findings are made, the taking is limited to harassment, and notice of a proposed authorization is provided to the public for review.

Authorization may be granted if NMFS finds, based on the best available scientific evidence, that the taking will have a negligible impact on the marine mammal species or stock(s). Where negligible impact is defined in regulation (50 CFR 216.103) as: “an impact resulting from the specified activity that cannot be reasonably expected to, and is not reasonably likely to, adversely affect the species or stock through effects on annual rates of recruitment or survival”.

Summary of Request

On June 17, 2001, NMFS received an application from Venoco, Inc., the owner and operator of the Carpinteria Oil and Gas Processing Facility in Carpinteria, CA, requesting an authorization for the harassment of small numbers of Pacific harbor seals incidental to repair of gas pipeline supports and pier pilings at Casitas Pier. A detailed description of the work proposed for 2001 is contained in the Project Execution Plan and application which is available upon request (see ADDRESSES).

Venoco plans to complete all repair activities in a 3-week period beginning in early November 2001. To account for potential weather and logistical delays and reduce further paperwork, the proposed IHA would be issued for a full 1-year period (November 2001-November 2002).

Description of Marine Mammals and Habitat Potentially Affected by the Activity

Harbor seals generally are non-migratory, with local movements associated with such factors as tides, weather, season, food availability, and reproduction(Scheffer and Slipp, 1944; Fisher, 1952; Bigg, 1969, 1981). They haul out on rocks, reefs, beaches, and drifting glacial ice, and feed in marine, estuarine, and occasionally fresh waters. Harbor seals have also displayed strong fidelity for haulout sites (Pitcher and Calkins, 1979; Pitcher and McAllister, 1981). The eastern Pacific harbor seal has an estimated population of 285,000 individuals distributed along the entire west coast of North America from the Pribilof and Aleutian Islands in Alaska to Baja California.

In Carpinteria, Pacific harbor seals haul out year round. This area is one of two along the mainland coast of southern California that is readily accessible to the public. The other haul out is in La Jolla, CA. There are four other sizable haul outs along the mainland coast of Santa Barbara County, one at Naples, one at Point Conception, and two at Vandenberg Air Force Base. However, unlike the Carpinteria haul out, these sites are on private land and not readily accessible to the public.

In Carpinteria, peak numbers are reached during the pupping season (late February through March) and molting season (summer months). The pups born at these sites are weaned in 4 to 6 weeks, so nearly all pups are independent by the end of May. 20 to 30 pups are usually born there each year (Howorth, 1995, 1998). A peak abundance count made during the 1998 pupping season was 345 seals (Howorth, 1998).

The project site is adjacent to a small beach used by harbor seals as a haul-out and rookery area. Harbor seals continue to use this area despite pier activity and human presence (Howorth, 1995, 1998). 265 feet (ft) (81 meters (m)) east of Casitas Pier, a small sandy beach and offshore rock area marks the western limits of the local harbor seal haul outs.

California sea lions ( Zalophus californianus) do occasionally haul out on the beach or rocks adjacent to the project site. However, such individuals are usually not healthy and are taken to the Santa Barbara Marine Mammal Center (Howorth, 1995, 1998).

Bottlenose dolphins (Tursiops truncatus) and the eastern North Pacific gray whale (Eschrichtius robustus) have been reported near the project site (Howorth, 1995, 1998). Both species, when sighted near the project site, have consistently avoided the pier. Years of data from previous projects and from the Carpinteria Seal Watch have not observed any instances of cetaceans within the project area.

Potential Effects on Marine Mammals and their Habitat

Potential harassment may result from noise generated by repair activities to the pipeline and pier as well as from the physical presence of people on the beaches.

Seals may be disturbed and leave the beach when pile driving activities are underway; however, previous monitoring has shown that all seals returned when activities ceased (Venoco, 2001).

Number of Marine Mammals Potentially Harassed

During repair work carried out by Venoco an estimated 364 Pacific harbor seals have the potential to be incidentally harassed. This number is the maximum count documented by Howorth (1995, 1998) during the summer molting season.

Mitigation

Mitigation measures described in this section and still under development by Venoco are being proposed to reduce the potential for harassment and eliminate the potential for incidental injury and mortality due to repair activities.

If operationally feasible, all repairs will take place during daylight hours in a three-week period commencing November 1, 2001, before the harbor seal pupping period and while the beach is open to the public. During this period few, if any, seals are present on shore because beachwalkers, dogs, joggers, kayakers, and others frequent the beach during daylight hours. During November, early storms and currents erode the sand covering the rocks and reefs, which will also reduce the amount of excavation necessary to expose the base of the pier pilings.

Work on pilings closest to the haul-out site will be conducted at the beginning of the project and only during low tides (American Marine Corp., 2000). Therefore, any potential for disturbing harbor seals would be limited to approximately 4 hours each 24-hour period.

To reduce the potential for visual disturbance to the seals, mitigation measures will include, but will not be limited to: the diving air compressor, trucks, and equipment motors will be equipped with quiet mufflers; backup alarms on trucks will be disconnected; all lines, floats, cables, etc. used in handling materials will be secured to the pier; a large, weighted down tarp will be placed to hide workers on the beach from view; all personnel will be instructed to avoid rapid or sudden movements, shouting, throwing objects or other actions that could startle the seals; only the minimum number of people needed to perform the work on the beach at one time will be allowed; divers will be instructed to stay submerged while performing their tasks; and verbal communications from the pier or other project site to divers or workers will be via radio.

Successful implementation of additional mitigation measures by Venoco and their contractors would further reduce the potential for adverse impacts on Pacific harbor seals in the area.

Monitoring

NMFS will require Venoco to monitor the impact of pile driving and other repair activities on harbor seals. Monitoring will be conducted by one or more NMFS-approved biologists. Before an incidental harassment authorization can be issued to Venoco for this activity, NMFS must receive and accept a complete monitoring plan that includes: (1) a description of the proposed survey techniques that would be used to determine the movement and activity of harbor seals near the construction areas; and (2) scientific rigor that will allow NMFS to verify that any impacts on marine mammal populations from this specific activity are small in number and negligible.

Reporting

Venoco will provide monthly reports to the Southwest Regional Administrator, NMFS, including a summary of the previous month's monitoring activities and an estimate of the number of harbor seals that may have been harassed as a result of repair activities. These reports will provide dates, time, tidal height, weather, number of harbor seals seen (including sex and age class if possible), and any observed disturbances. A description of the repair activities at the time of observation will also be provided.

The final monitoring report is due within 90 days of completion of the activity. This report will contain a description of the methods, results, and interpretation of all monitoring tasks.

Endangered Species Act (ESA) Consultation

This proposed authorization would not allow the take of any species listed as endangered or threatened under the ESA.

Preliminary Conclusions

NMFS has preliminarily determined that the impact of conducting repair activities at the Carpinteria Oil and Gas Processing Facility in Carpinteria, CA will have a negligible impact on Pacific harbor seals in California. While behavioral modifications may be made by this species to avoid the resultant noise and activities, the avoidance of the area is not reasonably expected to, and is not reasonably likely to, adversely affect the annual rates of recruitment or survival of the stock.

The number of potential harassment takings is estimated to be small. In addition, no take by injury and/or death is anticipated, and the potential for such taking will be avoided through the incorporation of the mitigation measures mentioned in this document. Haul-out sites, rookeries, mating grounds, areas of concentrated feeding, and other areas of special significance for harbor seals within or near the planned area of operations will be avoided in order to avoid any potential impacts.

Proposed Authorization

NMFS proposes to issue an IHA for repair activities at the Carpinteria Oil and Gas Processing Facility in Carpinteria, CA from November 1, 2001 until November 1, 2002, provided the mitigation and monitoring plan proposed by the City and the reporting requirements defined by NMFS are implemented successfully. NMFS has preliminarily determined that the proposed activity would result in the harassment of only small numbers of Pacific harbor seals and would have a negligible impact on these marine mammal stocks.

Information Solicited

NMFS requests interested persons to submit comments, and information, concerning this request Donna Wieting, Marine Mammal Conservation Division, Office of Protected Resources, NMFS, 1315 East-West Highway, Silver Spring, MD 20910-3225.

Dated: September 5, 2001.
Ann D. Terbush,
Acting Deputy Director, Office of Protected Resources, National Marine Fisheries Service.

[FR Doc. 01-22931 Filed 9-11-01; 8:45 am]

BILLING CODE 3510-22-S